DEPARTMENT OF EDUCATION

Arbitration Panel Decision Under the Randolph-Sheppard Act

AGENCY: Department of Education.

ACTION: Notice of arbitration panel decision under the Randolph-Sheppard Act.

SUMMARY: The Department of Education (Department) gives notice that on March 30, 2007, an arbitration panel rendered a decision in the matter of Ronald Carter v. Georgia Department of Labor, Division of Rehabilitation Services (Case No. R-S/06-2). This panel was convened by the Department under 20 U.S.C. 107d-1(a), after the Department received a complaint filed by the petitioner, Ronald Carter.

FOR FURTHER INFORMATION CONTACT: You may obtain a copy of the full text of the arbitration panel decision from Suzette E. Haynes, U.S. Department of Education, 400 Maryland Avenue, SW., room 5022, Potomac Center Plaza, Washington, DC 20202-2800. Telephone: (202) 245-7374. If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: Under section 6(c) of the Randolph-Sheppard Act (the Act), 20 U.S.C. 107d-2(c), the Secretary publishes in the Federal Register a synopsis of each arbitration panel decision affecting the administration of vending facilities on Federal and other property.

Background

This dispute concerned alleged violations of the Act, the implementing regulations in 34 CFR part 395, and State rules and regulations by the Georgia Department of Labor, Division of Rehabilitation Services, the State licensing agency (SLA) regarding complainant's termination as manager at Facility #348 at the United States Postal Service's (USPS) Atlanta Bulk Mail Center.

Summary

Complainant has been a licensed blind vendor in the Georgia Business Enterprise Program (BEP) for 16 years. In 1999, complainant was assigned as the vending facility manager at the USPS Atlanta Bulk Mail Center, Facility #348. Facility #348 is a vending machine route.

In the termination letter dated September 24, 2004, the SLA informed the complainant that the USPS was dissatisfied with his performance for the following reasons: (1) Lack of inventory in the vending machines, (2) expired food items, (3) failure to maintain vending machines, (4) complainant's absence from the facility, (5) limited food selection, and (6) failure to resolve customer service complaints. The letter further indicated that the USPS threatened to terminate the permit agreement with the SLA unless there was improvement regarding the level of service customers received and the complainant was replaced.

Shortly thereafter, complainant requested an administrative review concerning his license termination. On November 29, 2004, the SLA issued a decision denying his petition. In December 2004, complainant filed for a state fair hearing on this matter, which was held on April 15, 2005. On June 29, 2005, the Administrative Law Judge (ALJ) issued a decision affirming the SLA's termination of complainant's operator license.

Subsequently, the SLA informed complainant it had adopted the ALJ's decision as final agency action. Complainant sought review by a Federal arbitration panel of that decision.

Arbitration Panel Decision

The issue heard by the panel was whether the actions taken by the Georgia Department of Labor, Division of Rehabilitation Services violated the Act, 20 U.S.C. 107 et seq., the implementing regulations in 34 CFR part 395, and its own rules and regulations concerning the alleged improper termination of complainant's vending operating license to manage Facility #348 at the USPS Atlanta Bulk Mail Center.

After reviewing the entire case file and hearing testimony of witnesses, the majority of the panel ruled that the SLA acted properly and in full and fair compliance with the Act, implementing regulations, and State rules and regulations. Therefore, the panel denied complainant's grievance. One panel member dissented.

The views and opinions expressed by the panel do not necessarily represent the views and opinions of the U.S. Department of Education.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 28, 2007.
John H. Hager,
Assistant Secretary for Special Education and Rehabilitative Services.

[FR Doc. E7-12893 Filed 7-2-07; 8:45 am]

BILLING CODE 4000-01-P